DEPARTMENT OF THE INTERIOR

Bureau of Land Management

[OR-035-04-1430-EU; GP-04-0247]

Direct Sale of Public Land, OR 55881

AGENCY: Bureau of Land Management (BLM), Vale District, Interior.

ACTION: Notice of realty action.

SUMMARY: An 11.25 acre parcel of public land in Baker County, Oregon, is being considered for direct sale to George and Joanne Voile, the adjoining landowners, to resolve an inadvertent unauthorized use that was initiated many decades ago by the former owners.

This land is difficult and uneconomic to manage as part of the public lands and is not suitable for management by another Federal agency. No significant resource values will be affected by this disposal. The parcel proposed for sale is identified as suitable for disposal in the Baker Resource Management Plan, dated July 2, 1989.

DATES: Submit comments on or before January 13, 2005.

ADDRESSES: Address all written comments concerning this Notice to Penelope Dunn Woods, Field Manager, BLM Baker Field Office, 3165 10th Street, Baker City, Oregon 97814. Electronic format submittal will not be accepted.

FOR FURTHER INFORMATION CONTACT: Steve Davidson, Realty Specialist, at (541) 523-1349.

SUPPLEMENTARY INFORMATION: The following described public land in Baker County, Oregon, is suitable for sale under Sections 203 and 209 of the Federal Land Policy and Management Act (FLPMA) of 1976, (43 U.S.C. 1713 and 1719). The parcel proposed for sale is described as follows:

Willamette Meridian, Oregon

T. 8 S., R. 42 E.

Section 28: N½NE¼NE¼NE¼, N½SW¼NE¼NE¼NE¼, SE¼NE¼NE¼NE¼, E½NE¼NW¼NE¼NE¼ and E½NE¼SE¼NE¼NE¼.

The area described contains 11.25 acres. The parcel will be sold at no less than the appraised fair market value of $3,300.00.

The land will be sold using the direct sale procedures authorized under 43 CFR 2711.3-3. Direct sale is appropriate because of the need to resolve inadvertent unauthorized use and occupancy of the public land resulting from encroachment of a farmstead from adjoining land, and to protect equities arising from that use, which was initiated by a previous land owner several decades ago. Because of the small size and configuration of the parcel, its historic use and its location relative to the adjoining private land, it is impractical for another party to own or for the BLM to retain the parcel under its management.

George and Joanne Voile will be allowed 30 days from receipt of a written offer to submit a deposit of at least 20 percent of the appraised market value of the parcel, and 180 days thereafter to submit the balance.

The following rights, reservations, and conditions will be included in the patent conveying the land:

1. A reservation to the United States for a right-of-way for ditches and canals constructed by the authority of the United States. Act of August 30, 1890(43 U.S.C. 945).

2. A right-of-way reserved to the United States for that electric power transmission line, and all appurtenances thereto, constructed by the United States under Federal Power Commission Order of 9/5/58 for Project 1971.

3. Such rights as Baker County, Oregon may have for a road right-of-way granted, created or established by or for the use of the public and by or under Local, State or Federal Laws or decisions, or otherwise.

4. Such rights for an irrigation canal that the Southside Improvement District may have pursuant to a right-of-way R.S. 2339 and R.S. 2340 (43 U.S.C. 661) (OR-58407).

5. A notice and indemnification statement on the patent under the Comprehensive Environmental Response, Compensation and Liability Act (42 U.S.C. Section 9620) holding the United States harmless from any release of hazardous materials that may have occurred as a result of the unauthorized use of the property by other parties.

The mineral interests being offered for conveyance have no known mineral value. Acceptance of a direct sale offer constitutes an application for conveyance of the mineral interest pursuant to 43 CFR part 2720. In addition to the full purchase price, a nonrefundable fee of $50 will be required for purchase of the mineral interests to be conveyed simultaneously with the sale of the land.

The land described is segregated from appropriation under the public land laws, including the mining laws, with the exception of sales under the above cited statutes, pending disposition of this action or 270 days from the date of publication of this notice, whichever occurs first.

Detailed information concerning this sale, including the reservations, sale procedures and conditions, appraisal, planning and environmental documents, and mineral report is available for review at the Baker Field Office at the above address.

Objections will be reviewed by the Vale District Manager who may sustain, vacate, or modify this realty action. In the absence of any objections, this proposal will become the final determination of the Department of the Interior.

Comments, including names, street addresses, and other contact information of respondents, will be available for public review. Individual respondents may request confidentiality. If you wish to request that the BLM consider withholding your name, street address and other contact information, e.g., Internet address, fax or phone number, from public review or from disclosure under the Freedom of Information Act, you must state this prominently at the beginning of your written comment. The BLM will honor requests for confidentiality on a case-by-case basis to the extent allowed by law. The BLM will make available for public inspection in their entirety all submissions from organizations and businesses, and from individuals identifying themselves as representatives or officials of organizations or businesses.

(Authority: 43 CFR 2711.1-2(a))

Dated: September 15, 2004.
Penelope Dunn Woods,
Field Manager, Baker Resource Area.

[FR Doc. 04-26323 Filed 11-26-04; 8:45 am]

BILLING CODE 4310-33-P